FEDERAL DEPOSIT INSURANCE CORPORATION

Notice of Agency Meeting; Sunshine Act

Pursuant to the provisions of the “Government in the Sunshine Act” (5 U.S.C. 552b), notice is hereby given that the Federal Deposit Insurance Corporation's Board of Directors will meet in open session at 10 a.m. on Friday, May 29, 2009, to consider the following matters:

Summary Agenda:

No substantive discussion of the following items is anticipated. These matters will be resolved with a single vote unless a member of the Board of Directors requests that an item be moved to the discussion agenda.

Summary reports, status reports, and reports of actions taken pursuant to authority delegated by the Board of Directors.

Memorandum and resolution re: Establishment of the FDIC Advisory Committee on Community Banking.

Memorandum and resolution re: Final Rule that restates, without change, the Interim Rule that Amended the Temporary Liquidity Guarantee Program to Extend the Debt Guarantee Program and to Impose Surcharges on Assessments for Certain Debt Issued on or after April 1, 2009.

Memorandum and resolution re: Final Rule Providing for Modification of the Temporary Liquidity Guarantee Program to Guarantee Mandatory Convertible Debt.

Discussion Agenda: Memorandum and resolution re: Final Rule for Interest Rate Restrictions on Insured Depository Institutions That Are Not Well Capitalized.

Memorandum and resolution re: Interagency Notice of Proposed Rulemaking to Implement the Secure and Fair Enforcement for Mortgage Licensing Act of 2008.

Memorandum and resolution re: Interagency Final Rule and Advanced Notice of Proposed Rulemaking on the Accuracy and Integrity of Information Furnished to Consumer Reporting Agencies, and Interagency Final Rule on Consumers' Right to Dispute Inaccurate Information Provided to Consumer Reporting Agencies.

The meeting will be held in the Board Room on the sixth floor of the FDIC Building located at 550 17th Street, NW., Washington, DC.

This Board meeting will be Webcast live via the Internet and subsequently made available on-demand approximately one week after the event. Visit http://www.vodium.com/goto/fdic/boardmeetings.asp to view the event. If you need any technical assistance, please visit our Video Help page at: http://www.fdic.gov/video.html.

The FDIC will provide attendees with auxiliary aids (e.g., sign language interpretation) required for this meeting. Those attendees needing such assistance should call (703) 562-6067 (Voice or TTY), to make necessary arrangements.

Requests for further information concerning the meeting may be directed to Mr. Robert E. Feldman, Executive Secretary of the Corporation, at (202) 898-7043.

Dated: May 22, 2009.
Federal Deposit Insurance Corporation.
Robert E. Feldman,
Executive Secretary.

[FR Doc. E9-12452 Filed 5-26-09; 11:15 am]

BILLING CODE P